DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than July 11, 2014.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Health Education Assistance Loan (HEAL) Program: Lender's Application for Insurance Claim Form and Request for Collection Assistance Form OMB No. 0915-0036—Extension.

Abstract: The clearance request is for an extension of two forms that are currently approved by OMB. HEAL lenders use the Lenders Application for Insurance Claim to request payment from the federal government for federally insured loans lost due to borrowers' death, disability, bankruptcy, or default. The Request for Collection Assistance form is submitted by HEAL lenders to request federal assistance with the collection of delinquent payments from HEAL borrowers.

Need and Proposed Use of the Information: Lender's Application for Insurance Claim Form—This form is used to obtain information about the claim and to determine if the lending institution has complied with statutory and regulatory requirements for payment of the insurance claim.

Failure to submit the required documentation or not filing the form promptly may result in a claim being penalized or denied. Request for Collection Assistance Form—When a borrower is 90 days delinquent, the lender must immediately request pre-claims assistance from the Public Health Service. Pre-claims assistance consists of three progressively stronger letters urging the borrower to contact his or her lender before litigation is initiated against the borrower. The Secretary does not pay a default claim if the lender fails to request pre-claims assistance.

Likely Respondents: HEAL Lenders and Servicers.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
Lender's Application for Insurance Claim Form 510 | 15 | 20 | 300 | .500 | 150
Request for Collection Assistance Form 513 | 15 | 303 | 4,545 | .167 | 759
Total | 30 |  |  |  | 909

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: April 28, 2014.
Jackie Painter,
Deputy Director, Division of Policy and Information Coordination.

[FR Doc. 2014-10877 Filed 5-9-14; 8:45 am]

BILLING CODE 4165-15-P